DEPARTMENT OF COMMERCE

National Institute of Standards and Technology

Announcement of Residential Fire Suppression Research Needs Workshop

AGENCY: National Institute of Standards and Technology, Department of Commerce.

ACTION: Notice of Workshop.

SUMMARY: The National Institute of Standards and Technology (NIST) invites interested parties to attend a one-day Residential Fire Suppression Research Needs Workshop. The Workshop will provide a forum to discuss test methods, technologies, and R&D that can significantly improve residential fire protection through the development of science-based methods that test the performance of fire suppression technology with emphasis on residential kitchen applications. The Workshop program will include experts from the standards, hardware manufacturer, testing and fire service communities, and those doing research on fire suppression, speaking on today's fire safety challenges. The workshop will be held April 11, 2006 from 8 a.m. to 5 p.m.

The goal of the workshop is to identify barriers that impede advances in the application of localized suppression systems in residences. In this regard, the Workshop will explore:

• Residential Fire Trends

• Developments in Suppression System Technologies

• Characterization of the Performance of Suppression Systems

• The Role of Federal Agencies and Standards Committees

• Opportunities for Collaboration

We expect this workshop to provide a strong foundation for follow-on efforts among government agencies, industry, and academia to

• Identify/define research needs on Residential Fire Suppression

• Develop performance standards

• Demonstrate performance metrics

Due to space limitations, attendance will be limited to 45 registered participants. Participants will be registered on a first come first serve basis. Attendees must pre-register; there will be no same-day registrations.

DATES: The Residential Fire Suppression Research Needs Workshop will be held April 11, 2006. The workshop will be held from 8 a.m. to 5 p.m.

ADDRESSES: The workshop will be held at the National Institute of Standards and Technology (NIST), 100 Bureau Drive, Bldg 224, Rm B-245, Gaithersburg, MD 20899.

FOR FURTHER INFORMATION CONTACT: To register for the conference, contact: Yalasha Redd at (301) 975-6864, or via e-mail yalasha.redd@nist.gov. Please pre-register by no later than March 24, 2006. For technical information, contact: Anthony Hamins at 301-975-6598, anthony.hamins@nist.gov, or Daniel Madrzykowski at 301-975-6677, daniel.madrzykowski@nist.gov.

SUPPLEMENTARY INFORMATION: Of the 400,000 residential fires reported in 2001, approximately 30% involved cooking equipment in the kitchen, resulting in approximately 370 fatalities and 4,300 injuries. Sixty-eight percent of these cooking fires involved the stovetop. To address this life-safety issue on a timely basis, retrofit fire suppression systems must be considered as part of the solution. A number of range top fire suppression systems have been developed, however, market acceptance has been limited. Broad acceptance of effective fire suppression systems will require the development and industry acceptance of a standard test method. Existing standard suppression test methods designed for residential sprinklers (UL 1626) and commercial systems (UL 300) are not optimized for devices developed specifically for residential stovetop fires. There is currently no widely accepted standard test method for residential kitchen fire hazards, although there is an outline for fire test methods for self-contained units, UL300A, “Outline of Investigation for Extinguishing System Units for Residential Range Top Cooking Surfaces”. For more information on the workshop agenda refer to http://www.bfrl.nist.gov/info/workshop/resfire/.

Dated: February 17, 2006.
William Jeffrey,
Director.

[FR Doc. E6-2776 Filed 2-27-06; 8:45 am]

BILLING CODE 3510-13-P